DEPARTMENT OF COMMERCE

Technology Administration

Announcing a Public Workshop on Digital Entertainment and Rights Management

AGENCY: Technology Administration, Commerce.

ACTION: Notice of a public workshop.

SUMMARY: The United States Department of Commerce Technology Administration (TA) announces a public workshop on digital entertainment and its availability to consumers. The workshop will help gather data on such issues as the strengths, weaknesses and availability of current and imminent technological solutions to protect digital content, barriers that are inhibiting movies, music and games from coming online and the capability of networks to handle digital content such as video-on-demand to the home. Limited seating will be available to members of the general public. It is recommended that persons wishing to become general public attendees call in advance to reserve seating, on a first come, first served basis.

DATES: This workshop will be held on December 17, 2001, from 9 a.m.-4 p.m.

ADDRESSES: The workshop will be held at the Herbert C. Hoover Building, 1401 Constitution Avenue, NW., Room 4830, Washington, DC. Entrance on 14th St. between Pennsylvania and Constitution Aves., NW.

FOR FURTHER INFORMATION CONTACT: Further information may be obtained from Chris Israel, Deputy Assistant Secretary for Technology Policy, Technology Administration, (202) 482-5687.

SUPPLEMENTARY INFORMATION: Pursuant to its statutory authority found at 15 U.S.C. 3704(c), the Technology Administration is authorized, among other things, to do the following:

• Conduct technology policy analyses to improve United States industrial productivity, technology, and innovation, and cooperate with United States industry in the improvement of its productivity, technology, and ability to compete successfully in world markets;

• Determine the relationships of technological developments and international technology transfers to the output, employment, productivity, and world trade performance of United States and foreign industrial sectors;

• Determine the influence of economic, labor and other conditions, industrial structure and management, and government policies on technological developments in particular industrial sectors worldwide;

• Identify technological needs, problems, and opportunities within and across industrial sectors that, if addressed, could make a significant contribution to the economy of the United States;

• Assess whether the capital, technical and other resources being allocated to domestic industrial sectors which are likely to generate new technologies are adequate to meet private and social demands for goods and services and to promote productivity and economic growth;

• Propose and support studies and policy experiments, in cooperation with other Federal agencies, to determine the effectiveness of measures with the potential of advancing United States technological innovation;

• Serve as a focal point for discussions among United States companies on topics of interest to industry and labor, including discussions regarding manufacturing and discussions regarding emerging technologies; and,

• Consider government measures with the potential of advancing United States technological innovation and exploiting innovations of foreign origin.

With these responsibilities in mind, the Technology Administration is planning on holding a full-day, moderated series of informal discussions with relevant stakeholders to gather information on the availability of digital entertainment and status of copyright protection and rights management tools. The discussions will help gather data on such issues as the strengths, weaknesses and availability of technological solutions, as well as network capability.

Authority: This work effort is being initiated pursuant to TA's statutory responsibilities, codified at section 3704 of Title 15 of the United States Code.

Dated: November 30, 2001.
Phillip J. Bond,
Undersecretary of Commerce for Technology.

[FR Doc. 01-30221 Filed 12-5-01; 8:45 am]

BILLING CODE 3510-13-P